DEPARTMENT OF HOUSING AND URBAN DEVELOPMENT

24 CFR Part 1000

[Docket No. FR-5275-N-12]

Native American Housing Assistance and Self-Determination Reauthorization Act of 2008: Negotiated Rulemaking Committee

AGENCY: Office of the Assistant Secretary for Public and Indian Housing, HUD.

ACTION: Notice of meeting of negotiated rulemaking committee.

SUMMARY: This notice announces a two-day session of the negotiated rulemaking committee that developed HUD's November 18, 2011, proposed rule to revise the regulations governing the Indian Housing Block Grant (IHBG) Program and Title VI Loan Guarantee Program. HUD's proposed rule was developed, as required by statute, by negotiated rulemaking. The public comment period on the proposed rule closed on January 17, 2012. The purpose of the two-day session is to provide the negotiated rulemaking committee members the opportunity to review and consider responses to the public comments received on the November 18, 2011, proposed rule.

DATES: The session will be held on Tuesday, May 1, 2012, and Wednesday, May 2, 2012. On each day, the session will begin at approximately 8:30 a.m., and will adjourn at approximately 6 p.m.

ADDRESSES: The sessions will take place in the Brooke Mondale Auditorium, Department of Housing and Urban Development, 451 Seventh Street SW., Washington DC, 20410. Members of the public wishing to enter the HUD Weaver Building to attend the sessions must present a current photo identification card, such as a valid driver's license, military ID, work related ID, or passport, at the Southeast lobby security reception desk. To expedite entrance into the building, the public is encouraged to RSVP to Emily.Wright@hud.gov by April 27, 2012. A visitor pass will be issued and must remain visible at all times. Visitors to the HUD Weaver Building will be required to pass through the magnetometer and have their packages X-rayed or inspected by the security staff.

FOR FURTHER INFORMATION CONTACT: Rodger J. Boyd, Deputy Assistant Secretary for Native American Programs, Office of Public and Indian Housing, Department of Housing and Urban Development, 451 Seventh Street SW., Room 4126, Washington, DC 20410, telephone number 202-401-7914 (this is not a toll-free number). Hearing- or speech-impaired individuals may access this number via TTY by calling the toll-free Federal Relay Service at 1-800-877-8339.

SUPPLEMENTARY INFORMATION: On November 18, 2011 (76 FR 71474), HUD published a proposed rule to revise the regulations governing the IHBG and Title VI Loan Guarantee programs, codified in 24 CFR part 1000. HUD's proposed rule would implement statutory amendments to the Native American Housing Assistance and Self-Determination Act of 1996 (25 U.S.C. 4101 et seq.) (NAHASDA) enacted by the Native American Housing Assistance and Self-Determination Reauthorization Act of 2008 (Pub. L. 110-411, approved October 14, 2008). Specifically, HUD's proposed rule would amend subpart A of 24 CFR part 1000 regarding the guiding principles of NAHASDA, definitions, labor standards, environmental review procedures, procurement, tribal and Indian preference, and program income. Proposed changes to subpart B of 24 CFR part 1000 would address eligible families, useful life of properties, and criminal conviction records. Proposed changes to subpart C of 24 CFR part 1000 would address the tribal program year, Indian Housing Plan (IHP) requirements, administrative and planning expenses, reserve accounts, local cooperation agreements, and exemption from taxation. Proposed changes to subpart D of part 24 would address certain formula information that must be included in the IHP and Annual Performance Report (APR), as well as the date by which HUD must provide data used for the formula and projected allocation to a tribe or Tribally Designated Housing Entity. Proposed changes to subpart E of 24 CFR part 1000 would address financing guarantees. Finally, proposed changes to subpart F of 24 CFR part 1000 would address HUD monitoring, APRs, APR review, HUD performance measures, recipient comments on HUD reports, remedial actions in the event of substantial noncompliance, audits, submission of audit reports, and records retention. Additional explanation of HUD's proposed regulatory revisions are provided in the preamble to the November 18, 2011, proposed rule. The public comment period on the proposed rule closed on January 17, 2012.

As required by section 106 of NAHASDA, as amended, HUD negotiated the November 18, 2011, proposed rule with active tribal participation under the procedures of the Negotiated Rulemaking Act of 1990 (5 U.S.C. 561-570). HUD's proposed rule reflects the consensus decisions reached by HUD and the tribal representatives.

This notice announces a two-day session of the negotiated rulemaking committee that developed the November 18, 2011, proposed rule. The purpose of the two-day session is to provide the negotiated rulemaking committee members the opportunity to review and consider responses to the public comments received on the November 18, 2011, proposed rule.

The two-day session will take place as described in the DATES and ADDRESSES section of this document. The two-day session will be open to the public; however, public attendance may be limited to the space available. Members of the public may be allowed to make statements during the meeting to the extent time permits.

Dated: March 27, 2012.
Rodger J. Boyd,
Deputy Assistant Secretary for Native American Programs.

[FR Doc. 2012-7730 Filed 3-29-12; 8:45 am]

BILLING CODE 4210-67-P